DEPARTMENT OF TRANSPORTATION

Federal Aviation Administration

Advisory Circular 25.335-1A, Design Dive Speed

AGENCY: Federal Aviation Administration, DOT.

ACTION: Notice of issuance of advisory circular.

SUMMARY: This notice announces the issuance of Advisory Circular (AC) 25.335-1A, Design Dive Speed. This AC sets forth an acceptable means, but not the only means, of demonstrating compliance with the airworthiness standards for transport category airplanes related to the minimum speed margin between design cruise speed and design dive speed for transport category airplanes. Like all ACs, it is not regulatory but is to provide guidance for applicants in demonstrating compliance with the objective safety standards set forth in the rule.

DATES: Advisory Circular 25.335-1A was issued by the Acting Manager, Transport Airplane Directorate, Aircraft Certification Service, ANM-100, on September 29, 2000.

How to Obtain Copies: A paper copy of AC 25.335-1A may be obtained by writing to the U.S. Department of Transportation, Subsequent Distribution Office, DOT Warehouse, SVC-121.23, Ardmore East Business Center, 3341Q 75th Ave., Landover, MD 20785, telephone 301-322-5377, or faxing your request to the warehouse at 301-386-5394. The AC also will be available on the Internet at http://www.faa.gov/avr/air/airhome.htm, at the link titled “Advisory Circulars” under the “Available Information” down-drop menu.

Issued in Renton, Washington, on January 8, 2001.
Donald L. Riggin,
Acting Manager, Transport Airplane Directorate, Aircraft Certification Service, ANM-100.

[FR Doc. 01-1287 Filed 1-16-01; 8:45 am]

BILLING CODE 4910-13-M